SMALL BUSINESS ADMINISTRATION

Disaster Declaration #11694 and #11695; North Dakota Disaster Number ND-00015

AGENCY: U.S. Small Business Administration.

ACTION: Amendment 3.

SUMMARY: This is an amendment of the Presidential declaration of a major disaster for Public Assistance Only for the State of North Dakota (FEMA-1829-DR), dated 03/24/2009.

Incident: Severe storms and flooding.

Incident Period: 03/13/2009 through 08/10/2009.

Effective Date: 08/10/2009.

Physical Loan Application Deadline Date: 05/26/2009.

Economic Injury (EIDL) Loan Application Deadline Date: 12/24/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of North Dakota, dated 03/24/2009, is hereby amended to establish the incident period for this disaster as beginning 03/13/2009 and continuing through 08/10/2009.

All other information in the original declaration remains unchanged.

(Catalog of Federal Domestic Assistance Numbers 59002 and 59008)

James E. Rivera,
Acting Associate Administrator for Disaster Assistance.

[FR Doc. E9-19629 Filed 8-14-09; 8:45 am]

BILLING CODE 8025-01-P